JUDICIAL CONFERENCE OF THE UNITED STATES

Meeting of the Judicial Conference Advisory Committee on Rules of Evidence

AGENCY: Advisory Committee on Rules of Evidence, Judicial Conference of the United States.

ACTION: Notice of open meeting on Evidence Rule 502.

SUMMARY: The Advisory Committee on Rules of Evidence will hold a two-day meeting. The meeting will be open to public observation but not participation.

DATES: April 24-25, 2006.

Time: 8:30 a.m. to 5 p.m.

ADDRESSES: Fordham University Law School, Lowenstein Building, President's Dining Room, 60th Street and Columbus Avenue, New York, NY.

FOR FURTHER INFORMATION CONTACT: John K. Rabiej, Chief, Rules Committee Support Office, Administrative Office of the United States Courts, Washington, DC 20544, telephone (202) 502-1820.

Dated: February 6, 2006.
John K. Rabiej,
Chief, Rules Committee Support Office.

[FR Doc. 06-1278 Filed 2-10-06; 8:45 am]

BILLING CODE 2210-55-M